DEPARTMENT OF HEALTH AND HUMAN SERVICES

Health Resources and Services Administration

Childhood Vaccines Advisory Commission; Notice of Meeting

In accordance with section 10(a) (2) of the Federal Advisory Committee Act (Public Law 92-463), announcement is made of the following National Advisory body scheduled to meet during the month of March.

Name: Advisory Commission on Childhood Vaccines (ACCV).

Date and Time: March 6, 2002; 9 a.m.-3 p.m., March 7, 2002; 9 a.m.-12 p.m.

Place: The Ramada Inn, Georgetown Conference Room, 1775 Rockville Pike, Rockville, Maryland 20852, and Audio Conference Call.

The full ACCV will meet on Wednesday, March 6, from 9 a.m. to 3 p.m., and Thursday, March 7, from 9 a.m. to 12 p.m. The public can join the meeting in person at the address listed above or by audio conference call by dialing 1-888-566-5772 on March 6, and dialing 1-888-458-9977 on March 7, and providing the following information on both days:

Leader's Name: Thomas E. Balbier, Jr.

Password: ACCV.

The agenda items for March 6 will include, but not limited to: comments from the public on the legislative proposals to change the National Vaccine Injury Compensation Program (VICP), such as the American Academy of Pediatrics' proposed revisions to the VICP, and the House Committee on Government Reform bill titled, “National Vaccine Injury Compensation Program Improvement Act of 2002,” an update on the Vaccine Safety Data Link, a presentation of the Institute of Medicine's Report entitled, “Multiple Immunizations and Immune System Dysfunction,” and updates from the Office of Special Programs, the VICP, the Department of Justice, and the National Vaccine Program Office.

The agenda items on March 7 will include, but not limited to: a discussion of recommendations from the ACCV Workgroup on Proposed Legislative Changes to the VICP, and a discussion of reversionary trusts.

Persons interested in obtaining a copy of the American Academy of Pediatrics' proposed revisions to the VICP, and the proposed bill titled, “National Vaccine Injury Compensation Program Improvement Act of 2002” may contact Ms. Cheryl Lee by telephone at (301) 443-2124 or by e-mail at clee@hrsa.gov prior to March 6.

Persons interested in providing an oral presentation should submit a written request, along with a copy of their presentation to: Ms. Cheryl Lee, Principal Staff Liaison, Division of Vaccine Injury Compensation, Office of Special Programs, Health Resources and Services Administration, Room 8A-46, 5600 Fishers Lane, Rockville, MD 20857 or by e-mail at clee@hrsa.gov. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time.

Persons who do not file an advance request for a presentation, but desire to make an oral statement, may sign-up in the Georgetown Conference Room on March 6 and March 7. These persons will be allocated time as time permits.

Anyone requiring information regarding the ACCV should contact Ms. Cheryl Lee, Principal Staff Liaison, Division of Vaccine Injury Compensation, Office of Special Programs, Health Resources and Services Administration, Room 8A-46, 5600 Fishers Lane, Rockville, Maryland 20857, telephone (301) 443-2124 or e-mail: clee@hrsa.gov.

Agenda items are subject to change as priorities dictate.

Dated: February 19, 2002.
Jane M. Harrison,
Director, Division of Policy Review and Coordination.

[FR Doc. 02-4458 Filed 2-20-02; 3:34 pm]

BILLING CODE 4165-15-P